DEPARTMENT OF TRANSPORTATION

Federal Railroad Administration

[Docket Number FRA-2014-0101]

Petition for Waiver of Compliance

In accordance with Part 211 of Title 49 Code of Federal Regulations (CFR), this document provides the public notice that by a document dated October 3, 2014, the Sonoma-Marin Area Rail Transit District (SMART) petitioned the Federal Railroad Administration (FRA) for a waiver of compliance from certain provisions of the Federal railroad safety regulations contained at 49 CFR Part 236-Rules, Standards, and Instructions Governing the Installation, Inspection, Maintenance, and Repair of Signal and Train Control Systems, Devices, and Appliances. FRA assigned the petition Docket Number FRA-2014-0101.

Specifically, SMART seeks temporary relief from the requirements of 49 CFR 236.0—Applicability, minimum requirements, and penalties.

SMART proposes to perform acceptance testing of new diesel multiple units (DMUs) at speeds of up to 79 miles per hour (MPH) on trackage without a block signal system, as required in 49 CFR 236.0(c)(2).

SMART is scheduled to receive its pilot two-car set of DMUs in February 2015. However, SMART's Enhanced Automatic Train Control (E-ATC) system is not scheduled to be commissioned until 2016. SMART seeks permission to perform limited nonrevenue testing of its new fleet of DMUs at a speed not to exceed 79 mph, solely on a remote 6.3-mile segment of track, absent the installation of a block signal system. SMART is seeking to perform testing under this temporary waiver until its E-ATC system is fully commissioned.

SMART has submitted a test plan with its petition that outlines the safety procedures that are to be in place during the testing.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov.

• Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 4, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on October 14, 2014.
Ron Hynes,
Director, Office of Technical Oversight.

[FR Doc. 2014-24751 Filed 10-17-14; 8:45 am]

BILLING CODE 4910-06-P